DEPARTMENT OF LABOR

Occupational Safety and Health Administration

[Docket No. NRTL4-93]

Underwriters Laboratories Inc., Expansion of Recognition

AGENCY: Occupational Safety and Health Administration (OSHA), Labor.

ACTION: Notice.

SUMMARY: This notice announces the Agency's final decision to approve an expansion of its recognition of Underwriters Laboratories Inc. (UL) as a Nationally Recognized Testing Laboratory (NRTL) to include an additional 19 test standards.

DATES: This recognition becomes effective on December 8, 2003 and, unless modified in accordance with 29 CFR 1910.7, continues in effect while UL remains recognized by OSHA as an NRTL.

FOR FURTHER INFORMATION CONTACT: Bernard Pasquet or Roy Resnick, Office of Technical Programs and Coordination Activities, NRTL Program, Occupational Safety and Health Administration, U.S. Department of Labor, 200 Constitution Avenue, NW., Room N3653, Washington, DC 20210, or phone (202) 693-2110.

SUPPLEMENTARY INFORMATION:

Notice of Final Decision

The Occupational Safety and Health Administration (OSHA) hereby gives notice of the expansion of recognition of Underwriters Laboratories Inc. (UL) as a Nationally Recognized Testing Laboratory (NRTL). UL's expansion covers the use of additional test standards. OSHA's current scope of recognition for UL may be found in the following informational Web page: http://www.osha-slc.gov/dts/otpca/nrtl/ul.html.

OSHA recognition of an NRTL signifies that the organization has met the legal requirements in Section 1910.7 of Title 29, Code of Federal Regulations (29 CFR 1910.7). Recognition is an acknowledgment that the organization can perform independent safety testing and certification of the specific products covered within its scope of recognition and is not a delegation or grant of government authority. As a result of recognition, employers may use products “properly certified” by the NRTL to meet OSHA standards that require testing and certification.

The Agency processes applications by an NRTL for initial recognition or for expansion or renewal of this recognition following requirements in Appendix A to 29 CFR 1910.7. This appendix requires that the Agency publish two notices in the Federal Register in processing an application. In the first notice, OSHA announces the application and provides its preliminary finding and, in the second notice, the Agency provides its final decision on the application. These notices set forth the NRTL's scope of recognition or modifications of that scope.

UL submitted an application, dated November 18, 2002 (see Exhibit 30), to expand its recognition to use 41 additional test standards. The NRTL Program staff determined that 10 of the 41 test standards cannot be included in the expansion because they are not “appropriate test standards,” within the meaning of 29 CFR 1910.7(c), while an additional twelve are already included in UL's scope. The staff makes similar determinations in processing expansion requests from any NRTL. Therefore, OSHA approves 19 test standards for the expansion, which are listed below.

In connection with UL's expansion request, OSHA did not perform an on-site review (evaluation) of UL. However, an OSHA NRTL Program assessor reviewed information pertinent to this request and recommended that UL be granted the expansion (see Exhibit 31).

OSHA published the notice of its preliminary findings on the expansion request in the Federal Register on October 14, 2003 (68 FR 59209). The notice requested submission of any public comments by October 29, 2003. OSHA did not receive any comments pertaining to the application.

The previous notice published by OSHA for UL's recognition covered another expansion of recognition, which became effective on March 25, 2003 (68 FR 14432).

You may obtain or review copies of all public documents pertaining to the UL application by contacting the Docket Office, Occupational Safety and Health Administration, U.S. Department of Labor, 200 Constitution Avenue, NW., Room N2625, Washington, D.C. 20210. You should refer to Docket No. NRTL4-93, the permanent record of public information on UL's recognition.

The current addresses of the UL facilities already recognized by OSHA are:

Underwriters Laboratories Inc., 333 Pfingsten Road, Northbrook, Illinois 60062;

Underwriters Laboratories Inc., 1285 Walt Whitman Road, Melville, Long Island, New York 11747;

Underwriters Laboratories Inc., 1655 Scott Boulevard, Santa Clara, California 95050;

Underwriters Laboratories Inc., 12 Laboratory Drive, P.O. Box 13995, Research Triangle Park, North Carolina 27709;

Underwriters Laboratories Inc., 2600 N. W. Lake Road, Camas, Washington 98607;

UL International Limited, Veristrong Industrial Centre, Block B, 14th Floor, 34 Au Pui Wan Street, Fo Tan Sha Tin, New Territories, Hong Kong;

UL International Services, Ltd., Taiwan Branch, 4th Floor, 260 Da-Yeh Road, Pei Tou District, Taipei City, Taiwan;

UL International Demko A/S, Lyskaer 8, P.O. Box 514, DK-2730, Herlev, Denmark;

Underwriters Laboratory International (U.K.) Ltd., Wonersh House, The Guildway, Old Portsmouth Road, Guildford, Surrey GU3 1LR, United Kingdom;

Underwriters Laboratory International Italia S.r.l., Via Archimede 42, 1-20041 Agrate Brianza, Milan, Italy Testing facility: Z.I. Predda Niedda St. 18, I-07100, Sassari, Italy;

Underwriters Laboratories of Canada, 7 Crouse Road, Scarborough, Ontario, Canada MIR 3A9;

UL Japan Co., Ltd., Shimbashi Ekimae Bldg.—1 Gohkan, 4th floor, Room 402, 2-20-15 Shimbashi Minato Ku, Tokyo 105-0004, Japan;

UL Korea, Ltd., #805, Manhattan Building 36-2, Yeoui-dong, Yeoungdeungpo-gu, Seoul 150-010, Korea;

UL International Germany GmbH, Frankfurter Strasse 229, D-63263 Neu-Isenburg, Germany;

UL International (Netherlands) B.V., Landjuweel 52, NL-3905 PH Veenendaal, Netherlands.

Final Decision and Order

The NRTL Program staff has examined the application, the assessor's recommendation, and other pertinent information. Based upon this examination and the recommendation, OSHA finds that Underwriters Laboratories Inc. has met the requirements of 29 CFR 1910.7 for expansion of its recognition to include an additional 19 test standards. Pursuant to the authority in 29 CFR 1910.7, OSHA hereby expands the recognition of UL.

Expansion for Additional Standards

OSHA limits the expansion to testing and certification of products for demonstration of conformance to the following 19 test standards, and OSHA has determined the standards are appropriate within the meaning of 29 CFR 1910.7(c).

UL 441 Standard for Gas Vents

UL 508A Industrial Control Panels

UL 515 Electrical Resistance Heat Tracing for Commercial and Industrial Applications

UL 568 Nonmetallic Cable Tray Systems

UL 943B Appliance Leakage-Current Interrupters

UL 1004A Fire Pump Motors

UL 1285 Pipe and Couplings, Polyvinyl Chloride (PVC) for Underground Fire Service

UL 1713 Pressure Pipe and Coupling, Glass Fiber-Reinforced, for Underground Fire Service

UL 2129 Standard for Safety for Halocarbon Clean Agent Fire Extinguishers

UL 2305 Exhibition Display Units, Fabrication and Installation

UL 2351 Spray Nozzles for Fire-Protection Service

UL 2388 Flexible Lighting Products

UL 3111-2-31 Hand-Held Probe Assemblies for Electrical Measurement and Test

UL 60335-2-8 Household and Similar Electrical Appliances, Part 2: Particular Requirements for Electric Shavers, Hair Clippers, and Similar Appliances

UL 61010A-2-010 Electrical Equipment for Laboratory Use; Part 2: Particular Requirements for Laboratory Equipment for the Heating of Materials

UL 61010A-2-041 Electrical Equipment for Laboratory Use; Part 2: Particular Requirements for Autoclaves Using Steam for the Treatment of Medical Materials for Laboratory Processes

UL 61010A-2-042 Electrical Equipment for Laboratory Use; Part 2: Particular Requirements for Autoclaves and Sterilizers Using Toxic Gas for the Treatment of Medical Materials, and for Laboratory Processes

UL 61010A-2-051 Electrical Equipment for Laboratory Use; Part 2: Particular Requirements for Laboratory Equipment Mixing and Stirring

UL 61010A-2-061 Electrical Equipment for Laboratory Use; Part 2: Particular Requirements for Laboratory Atomic Spectrometers with Thermal Atomization and Ionization

OSHA's recognition of UL, or any NRTL, for a particular test standard is limited to equipment or materials (i.e., products) for which OSHA standards require third party testing and certification before use in the workplace. Consequently, any NRTL's scope of recognition excludes any product(s) that fall within the scope of a test standard, but for which OSHA standards do not require NRTL testing and certification.

Many of the UL test standards listed above also are approved as American National Standards by the American National Standards Institute (ANSI). However, for convenience, we use the designation of the standards developing organization for the standard as opposed to the ANSI designation. Under our procedures, any NRTL recognized for an ANSI-approved test standard may use either the latest proprietary version of the test standard or the latest ANSI version of that standard. You may contact ANSI to find out whether or not a test standard is currently ANSI-approved.

Conditions

Underwriters Laboratories Inc. must also abide by the following conditions of the recognition, in addition to those already required by 29 CFR 1910.7:

OSHA must be allowed access to the UL facilities and records for purposes of ascertaining continuing compliance with the terms of its recognition and to investigate as OSHA deems necessary;

If UL has reason to doubt the efficacy of any test standard it is using under this program, it must promptly inform the organization that developed the test standard of this fact and provide that organization with appropriate relevant information upon which its concerns are based;

UL must not engage in or permit others to engage in any misrepresentation of the scope or conditions of its recognition. As part of this condition, UL agrees that it will allow no representation that it is either a recognized or an accredited Nationally Recognized Testing Laboratory (NRTL) without clearly indicating the specific equipment or material to which this recognition is tied, or that its recognition is limited to certain products;

UL must inform OSHA as soon as possible, in writing, of any change of ownership, facilities, or key personnel, and of any major changes in its operations as an NRTL, including details;

UL will continue to meet all the terms of its recognition and will always comply with all OSHA policies pertaining to this recognition; and

UL will continue to meet the requirements for recognition in all areas where it has been recognized.

Signed at Washington, DC this 24th day of November, 2003.
John L. Henshaw,
Assistant Secretary.

[FR Doc. 03-30368 Filed 12-5-03; 8:45 am]

BILLING CODE 4510-26-P